DEPARTMENT OF TRANSPORTATION

Federal Aviation Administration

14 CFR Part 39

[Docket No. FAA-2004-18563; Directorate Identifier 2002-NM-98-AD; Amendment 39-13783; AD 2004-18-05]

RIN 2120-AA64

Airworthiness Directives; Bombardier Model DHC-8-311 Airplanes

AGENCY: Federal Aviation Administration (FAA), DOT.

ACTION: Final rule.

SUMMARY: The FAA is adopting a new airworthiness directive (AD) for certain Bombardier Model DHC-8-311 airplanes. This AD requires reviewing the airplane maintenance records to determine if you did the most recent bonding integrity inspection according to a certain revision of the Maintenance Program Support Manual (PSM), and doing related investigative and corrective actions if necessary. This AD is prompted by the discovery that a certain revision of the PSM omits several fuselage skin panels from a list of skin panels that must be inspected. We are issuing this AD to prevent disbonding of the subject skin panels, which could reduce the load-carrying capacity of the skin panels and result in reduced structural integrity of the airplane.

DATES: This AD becomes effective October 12, 2004.

ADDRESSES: You can examine the contents of this AD docket on the Internet at http://dms.dot.gov, or at the Docket Management Facility, U.S. Department of Transportation, 400 Seventh Street SW, room PL-401, on the plaza level of the Nassif Building, Washington, DC.

FOR FURTHER INFORMATION CONTACT: Technical information: Jon Hjelm, Aerospace Engineer, Airframe and Propulsion Branch, ANE-171, FAA, New York Aircraft Certification Office, 1600 Stewart Avenue, Westbury, New York 11590; telephone (516) 228-7323; fax (516) 794-5531.

Plain language information: Marcia Walters, marcia.walters@faa.gov.

Examining the Docket

The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section.

SUPPLEMENTARY INFORMATION: The FAA proposed to amend 14 CFR Part 39 with an AD for certain Bombardier Model DHC-8-311 airplanes. The proposed AD was published in the Federal Register on July 8, 2004 (69 FR 41213), to require reviewing the airplane maintenance records to determine if you did the most recent bonding integrity inspection according to a certain revision of the Maintenance Program Support Manual (PSM), and doing related investigative and corrective actions if necessary.

Comments

We provided the public the opportunity to participate in the development of this AD. No comments have been submitted on the proposed AD or on the determination of the cost to the public.

Conclusion

We have carefully reviewed the available data and determined that air safety and the public interest require adopting the AD as proposed.

Costs of Compliance

This AD will affect about 8 airplanes of U.S. registry. The records review will take about 1 work hour per airplane, at an average labor rate of $65 per work hour. Based on these figures, the estimated cost of the proposed AD for U.S. operators is $520, or $65 per airplane.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2004-18-05 Bombardier, Inc. (Formerly de Havilland, Inc.): Amendment 39-13783. Docket No. FAA-2004-18563; Directorate Identifier 2002-NM-98-AD.

Effective Date

(a) This airworthiness directive (AD) becomes effective October 12, 2004.

Affected ADs

(b) None.

Applicability

(c) This AD applies to Model DHC-8-311 airplanes, serial numbers 202 through 298 inclusive, certificated in any category.

Unsafe Condition

(d) This AD was prompted by the discovery that a certain revision of the Maintenance Program Support Manual (PSM) omits several fuselage skin panels from a list of skin panels that must be inspected. We are issuing this AD to prevent disbonding of the subject skin panels, which could reduce the load-carrying capacity of the skin panels and result in reduced structural integrity of the airplane.

Compliance

(e) You are responsible for having the actions required by this AD performed within the compliance times specified, unless the actions have already been done.

Review of Maintenance Records

(f) Within 14 days after the effective date of this AD, review the airplane maintenance records or maintenance logbook to determine if the most recent bonding integrity inspection of the fuselage skin panels was done according to Bombardier Maintenance Program Support Manual (PSM) 1-83-7A, Revision 6, dated January 30, 2001.

(1) If it can conclusively be determined that the most recent bonding integrity inspection of the fuselage skin panels was done according to PSM 1-83-7A, Revision 5, dated April 30, 1999; or Revision 7, dated August 15, 2001: This AD requires no further action.

(2) If the most recent bonding integrity inspection of the fuselage skin panels was done according to PSM 1-83-7A, Revision 6, dated January 30, 2001, or if it cannot be conclusively determined what revision of PSM 1-83-7A was used: At the applicable compliance time specified in paragraph (f)(2)(i) or (f)(2)(ii) of this AD, do a resonance frequency inspection of the fuselage skin panels listed in Table 1 of this AD, according to a method approved by either the Manager, New York Aircraft Certification Office (ACO), FAA; or Transport Canada Civil Aviation (TCCA) (or its delegated agent). PSM 1-83-7A, Revision 7, dated August 15, 2001, is one approved method.

(i) If no disbonding was found during any previous bonding integrity inspection: Within 1,000 flight hours or 6 months after the effective date of this AD, whichever is first.

(ii) If any disbonding was found during any previous bonding integrity inspection: Within 6 weeks after the effective date of this AD.

Table 1.—Fuselage Skin Panels
Engineering drawing | Skin panel description | PSM 1-83-7A figure sheet
85330204 | Skin, Right Side, Bottom | Figure 4/(Sheet 2).
85330201 | Skin, Right Side | Figure 4/(Sheet 5).
85330180 | Skin, Right Side, Top | Figure 4/(Sheet 6).
85330181 | Skin, Left Side, Top | Figure 4/(Sheet 7).
85330106 | Skin, Left Side, Bottom | Figure 4/(Sheet 14).
85330105 | Skin, Left Side | Figure 4/(Sheet 15).
85330101 | Skin, Left Side, Bottom | Figure 4/(Sheet 16).
85330033 | Skin, Bottom | Figure 4/(Sheet 17).
85330032 | Skin, Right Side, Lower | Figure 4/(Sheet 18).
85330032 | Skin, Right Side, Lower with Service Door | Figure 4/(Sheet 19).
85330031 | Skin, Left Side, Lower | Figure 4/(Sheet 20).
85332750 | Skin, Bottom, Center | Figure 4/(Sheet 25).
85332750 | Skin, Bottom, Center | Figure 4/(Sheet 26).

Repair

(g) If any disbonding is found during the resonance frequency inspection required by paragraph (f) of this AD: Before further flight, repair per a method approved by the Manager, New York ACO; or TCCA (or its delegated agent).

Limitation on Future Inspections

(h) As of the effective date of this AD, no person may use PSM 1-83-7A, Revision 6, dated January 30, 2001, to inspect for disbonding of fuselage skin panels on any airplane having any serial number 202 through 298 inclusive.

Alternative Methods of Compliance (AMOCs)

(i) The Manager, New York ACO, has the authority to approve AMOCs for this AD, if an AMOC is requested in accordance with the procedures found in 14 CFR 39.19.

Related Information

(j) Canadian airworthiness directive CF-2002-08, dated January 25, 2002, also addresses the subject of this AD.

Issued in Renton, Washington, on August 25, 2004.
Kevin M. Mullin,
Acting Manager, Transport Airplane Directorate, Aircraft Certification Service.

[FR Doc. 04-20204 Filed 9-3-04; 8:45 am]

BILLING CODE 4910-13-P